DEPARTMENT OF TRANSPORTATION

Pipeline and Hazardous Materials Safety Administration

Notice of Delays in Processing of Special Permits Applications

AGENCY: Pipeline and Hazardous Materials Safety Administration (PHMSA), DOT.

ACTION: List of applications delayed more than 180 days.

SUMMARY: In accordance with the requirements of 49 U.S.C. 5117(c), PHMSA is publishing the following list of special permit applications that have been in process for 180 days or more. The reason(s) for delay and the expected completion date for action on each application is provided in association with each identified application.

FOR FURTHER INFORMATION CONTACT: Ryan Paquet, Director, Office of Hazardous Materials Special Permits and Approvals, Pipeline and Hazardous Materials Safety Administration, U.S. Department of Transportation, East Building, PHH-30, 1200 New Jersey Avenue, Southeast, Washington, DC 20590-0001, (202) 366-4535.

Key to “Reason for Delay”

1. Awaiting additional information from applicant.

2. Extensive public comment under review.

3. Application is technically complex and is of significant impact or precedent-setting and requires extensive analysis.

4. Staff review delayed by other priority issues or volume of special permit applications.

Meaning of Application Number Suffixes

N—New application

M—Modification request

R—Renewal Request

P—Party To Exemption Request

Issued in Washington, DC, on September 1, 2011.
Donald Burger,
Chief, General Approvals and Permits.

Application No. | Applicant | Reason for delay | Estimated date of completion
Modification to Special Permits
14167-M | Trinityrail, Dallas, TX | 4 | 10-31-2011
14741-M | Weatherford International, Fort Worth, TX | 4 | 10-31-2011
8826-M | Phoenix Air Group, Inc., Cartersville, GA | 4 | 10-31-2011
8815-M | Florex Explosives, Inc., Crystal River, FL | 4 | 10-31-2011
12561-M | Rhodia, Inc., Cranbury, NJ | 4 | 10-31-2011
14763-M | Weatherford International, Fort Worth, TX | 4 | 10-31-2011
14909-M | Lake Clark Air, Inc., Port Alsworth, AK | 4 | 10-31-2011
14860-M | Alaska Airlines, Seattle, WA | 4 | 10-31-2011
10656-M | Conference of Radiation Control Program Directors, Inc., Frankfort, KY | 4 | 11-30-2011
11406-M | Conference of Radiation Control Program Directors, Inc., Frankfort, KY | 4 | 11-30-2011
12629-M | TEA Technologies, Inc., Amarillo, TX | 4 | 11-30-2011
10898-M | Hydac Corporation, Bethlehem, PA | 3 | 11-30-2011
11670-M | Schlumberger Oilfield UK Plc, Dyce, Aberdeen Scotland, Ab | 3 | 11-30-2011
10922-M | FIBA Technologies, Inc., Millbury, MA | 4 | 10-31-2011
14193-M | Honeywell International, Inc., Morristown, NJ | 4 | 11-30-2011
13336-M | Renaissance Industries, Inc. Sharpsville Operations M-1102, Sharpsville, PA | 4 | 10-31-2011
8723-M | Maine Drilling & Blasting, Auburn, NH | 4 | 11-30-2011
12929-M | Matheson Tr-Gas, Inc., Basking Ridge, NJ | 4 | 11-30-2011
14584-M | WavesinSolids LLC, State College, PA | 4 | 11-30-2011
13997-M | Maritime Helicopters, Homer, AK | 4 | 11-30-2011
7765-M | Carleton Technologies, Inc., Orchard Park, NY | 4 | 11-30-2011
13199-M | Carrier Corporation, Houston, TX | 4 | 11-30-2011
13736-M | ConocoPhillips, Anchorage, AK | 4 | 10-31-2011
New Special Permit Application
14813-N | Organ Recovery Systems, Des Plaines, IL | 4 | 10-31-2011
14872-N | Arkema, Inc., King of Prussia, PA | 4 | 11-30-2011
14929-N | Alaska Island Air, Inc., Togiak, AK | 4 | 11-30-2011
14951-N | Lincoln Composites, Lincoln, NE | 1 | 10-31-2011
14972-N | Air Products and Chemicals, Allentown, PA | 4 | 10-31-2011
15053-N | Department of Defense, Scott Air Force Base, IL | 4 | 11-30-2011
15080-N | Alaska Airlines, Seattle, WA | 1 | 11-30-2011
15199-N | Polskie Linie Lotnicze Lot S.A., dba LOT Polish Airlines | 4 | 10-31-2011
15220-N | GasCon (Pty) Ltd, Cape Town | 4 | 11-30-2011
15229-N | Linde Gas North America LLC, NEW PROVIDENCE, NJ | 4 | 11-30-2011
15233-N | ExpressJet Airlines, Inc., Houston, TX | 4 | 11-30-2011
15241-N | Alaska Central Express Inc., Anchorage, AK | 4 | 11-30-2011
15243-N | Katmai Air, LLC, Anchorage, AK | 4 | 11-30-2011
15257-N | GFS Chemicals, Columbus, Ohio | 4 | 11-30-2011
15258-N | Air Products and Chemicals, Inc., Tamaqua, PA | 4 | 11-30-2011
15263-N | Alaska Central Express, Anchorage, AK | 4 | 11-30-2011
15266-N | 3AL Testing Corp., Denver, CO | 4 | 11-30-2011
15274-N | Coastal Helicopters, Juneau, AK | 4 | 11-30-2011
15282-N | Lockheed Martin Space Systems Company, Denver, CO | 4 | 11-30-2011
15338-N | Middle Fork Aviation, Challis, ID | 4 | 10-31-2011
14839-N | Matheson Tr-Gas, Inc., Basking Ridge, NJ | 3 | 11-30-2011
Party to Special Permits Application
10457-P | Thatcher Company of Nevada, Henderson, NV | 4 | 11-30-2011
9623-P | Austin Star Detonator Company (ASD), Brownsville, TX | 4 | 11-30-2011
10880-P | Austin Star Detonator Company (ASD), Brownsville, TX | 4 | 11-30-2011
10880-P | Southwest Energy LLC, Tucson, AZ | 4 | 11-30-2011
7887-P | WES & T LLC, Tucson, AZ | 4 | 11-30-2011
11396-P | United Oil Recovery, Inc., (Former Grantee United Industrial Services), Meriden, CT | 4 | 11-30-2011
8971-P | Chemical Cutter Technology Ltd., Co., DBA Daniel OilField Tools, Houston, TX | 4 | 11-30-2011
7887-P | GEM of Rancho Cordova, LLC, dba PSC Environmental Services UNDER TERMINATION 1DEC, Cordova, CA | 4 | 11-30-2011
8445-P | GEM of Rancho Cordova, LLC dba PSC Environmental Services, Cordova, CA | 4 | 11-30-2011
11396-P | GEM of Rancho Cordova, LLC, dba PSC Environmental Services, Cordova, CA | 4 | 11-30-2011
11984-P | GEM of Rancho Cordova, LLC, dba PSC Environmental Services, Cordova, CA | 4 | 11-30-2011
11396-P | Advanced Waste Solutions, Inc., LOCKPORT, NY | 4 | 11-30-2011
13548-P | Energy Battery Group, Atlanta, GA | 4 | 11-30-2011
13548-P | Battery Service Inc., Charlotte, NC | 4 | 11-30-2011
13548-P | American Battery Corporation, Escondido, CA | 4 | 11-30-2011
13548-P | Art's Electric Inc., Longview, WA | 4 | 11-30-2011
13548-P | C. C. Battery Co., Inc., Corpus Christi, TX | 4 | 11-30-2011
13548-P | Jefferson Battery Co., Inc., Jefferson, LA | 4 | 11-30-2011
13548-P | Stovall Batteries, Athens, AL | 4 | 11-30-2011
13548-P | Battery Wholesale, Toledo, OH | 4 | 11-30-2011
13548-P | East Penn LLC, Corydon, IA | 4 | 11-30-2011
11579-P | McCallum Rock Drilling Inc., Chehalis, WA | 4 | 11-30-2011
12134-P | Riceland Foods, Inc., Stuttgart, AR | 4 | 11-30-2011
7887-P | Cesaroni Technology Inc., Sarasota, FL | 4 | 11-30-2011
11396-P | SeaWorld Parks & Entertainment LLC, d/b/a Busch Gardens, Williamsburg, Williamsburg, VA | 4 | 11-30-2011
11396-P | SeaWorld Parks & Entertainment LLC, d/b/a Water Country USA, Williamsburg, VA | 4 | 11-30-2011
11396-P | Sea World LLC, d/b/a, SeaWorld, San Diego, San Diego, CA | 4 | 11-30-2011
10048-P | Chemical Analytics, Inc., Romulus, MI | 4 | 11-30-2011
11396-P | CGL Transport, LLC, Albuquerque, NM | 4 | 11-30-2011
11396-P | Aeroframe Services, Lake Charles, LA | 4 | 11-30-2011
8723-P | Maxam US, LLC, Salt Lake City, UT | 4 | 11-30-2011
7835-P | CGL Transport, LLC, Albuquerque, NM | 4 | 11-30-2011
12412-P | C.E.O. Performance Chemicals, LLC, DBA: ChemStation Texas Gulf Coast, Houston, TX | 4 | 11-30-2011
11055-P | Stericycle Specialty Waste Solutions Inc., Blain, MN | 4 | 11-30-2011
7835-P | Stericycle Specialty Waste Solutions Inc., Blaine, MN | 4 | 11-30-2011
11396-P | Sea World Parks & Entertainment LLC, d/b/a Busch Gardens, Tampa, Tampa, FL | 4 | 11-30-2011
11043-P | Double Barrel Environmental, Riverside, CA | 4 | 11-30-2011
11396-P | Sea World of Florida LLC, d/b/a Sea World, Orlando, Orlando, FL | 4 | 11-30-2011
11396-P | Sea World of Florida LLC, d/b/a Aquatica, Orlando, FL | 4 | 11-30-2011
11396-P | Sea World of Florida LLC, d/b/a Discovery Cove, Orlando, FL | 4 | 11-30-2011
14282-P | The Allen Company, Inc., Lexington, KY | 4 | 11-30-2011
10751-P | The Allen Company, Inc., Lexington, KY | 4 | 11-30-2011
8196-P | International Equipment Leasing, AVENEL, NJ | 4 | 11-30-2011
11156-P | Pepin-Ireco, Inc., Ishpeming, MI | 4 | 11-30-2011
12412-P | ChemStation of Kansas City, Grain Valley, MO | 4 | 11-30-2011
12905-P | Gumderson, LLC, Portland, OR | 4 | 11-30-2011
8723-P | SLT Express Way Inc., Flendale, AZ | 4 | 11-30-2011
7616-P | Iowa Northern Railway, GREENE, IA | 4 | 11-30-2011
7887-P | Barmes HazMat, Inc., Pacoima, CA | 4 | 11-30-2011
10880-P | WESCO, Midvale, UT | 4 | 11-30-2011
7887-P | PSC Industrial Outsourcing, LP dba Philip West Industrial Services, Long Beach, CA | 4 | 11-30-2011
8445-P | PSC Industrial Outsourcing LP, dba Philip West Industrial Services, Long Beach, CA | 4 | 11-30-2011
11396-P | PSC Industrial Outsourcing LP, dba Philip West Industrial Services, Long Beach, CA | 4 | 11-30-2011
11396-P | Nexeo Solutions LLC, Dublin, OH | 4 | 11-30-2011
11296-P | Nexeo Solutions LLC, Dublin, OH | 4 | 11-30-2011
11624-P | Nexeo Solutions LLC, Dublin, OH | 4 | 11-30-2011
8445-P | Burlington Environmental, LLC, Tacoma, WA | 4 | 11-30-2011
11043-P | Burlington Environmental LLC, Tacoma, WA | 4 | 11-30-2011
11984-P | Burlington Environmental, LLC, Tacoma, WA | 4 | 11-30-2011
11396-P | Burlington Environmental, LLC, Tacoma, WA | 4 | 11-30-2011
8445-P | Rho Chem, LLC, Inglewood, CA | 4 | 11-30-2011
14447-P | Agrium Advanced Technologies (U.S.), Inc., Reese, MI | 4 | 11-30-2011
11296-P | Waste Management National Services, Inc., Oak Park, IL | 4 | 11-30-2011
Renewal Special Permits Applications
12443-R | Thatcher Company of Nevada, Henderson, NV | 4 | 11-30-2011
11043-R | Environmental Products & Services, Inc., Syracuse, NY | 4 | 11-30-2011
8445-R | Environmental Products & Services, Inc., Syracuse, NY | 4 | 11-30-2011
14482-R | Classic Helicopters Limited, L.C., Woods Cross, UT | 4 | 11-30-2011
11318-R | W.R. Grace Grace-Conn, Columbia, MD | 4 | 11-30-2011
11396-R | Veolia ES Technical Solutions, L.L.C., Flanders, NJ | 4 | 11-30-2011
11759-R | E.I. duPont de Neumours & Company, Inc., Wilmington, DE | 4 | 11-30-2011
6691-R | Praxair, Inc., Danbury, CT | 4 | 11-30-2011
11396-R | MP Environmental Services, Inc., Bakersfield, CA | 4 | 11-30-2011
12905-R | American Railcar Leasing, St. Charles, MO | 4 | 11-30-2011
12905-R | Union Tank Car Company, Alexandria, VA | 4 | 11-30-2011
11396-R | Clean Harbors Environmental Services, Inc., Norwell, MA | 4 | 11-30-2011
11396-R | Thunderbird Trucking, LLC, East Chicago, IN | 4 | 11-30-2011
11043-R | Thunderbird Trucking, LLC, East Chicago, IN | 4 | 11-30-2011
8445-R | Thunderbird Trucking, LLC, East Chicago, IL | 4 | 11-30-2011
11749-R | Occidental Chemical Corporation, Dallas, TX | 4 | 11-30-2011
12905-R | American Railcar Industries, St. Charles, MO | 4 | 11-30-2011
12905-R | GATX Rail Corporation, Chicago, IL | 4 | 11-30-2011
12905-R | G. E. Capital Rail Services, Chicago, IL | 4 | 11-30-2011
12905-R | Procor Limited, Oakville, ON | 4 | 11-30-2011
12905-R | Trinity Industries, Inc., Dallas, TX | 4 | 11-30-2011
11406-R | Conference of Radiation Control Program Directors, Inc., Frankfort, KY | 4 | 11-30-2011
8723-R | Nelson Brothers Mining Services, LLC, Birmingham, AL | 4 | 11-30-2011
7891-R | Aldrich Chemical Company Inc., Milwaukee, WI | 4 | 11-30-2011
11749-R | Union Tank Car Company, East Chicago, IN | 4 | 11-30-2011
6293-R | Dyno Nobel, Inc., Salt Lake City, UT | 4 | 11-30-2011
11396-R | Coal City Cob Co., Inc., Waxahachie, TX | 4 | 11-30-2011
14175-R | Industrial Welding and Tool Supply, Ltd., Oklahoma City, OK | 4 | 11-30-2011
10656-R | Conference of Radiation Control Program Directors, Inc., Frankfort, KY | 4 | 11-30-2011
7835-R | Air Products & Chemicals, Inc., Allentown, PA | 4 | 11-30-2011
14385-R | Union Pacific Railroad Company, Omaha, NE | 4 | 11-30-2011
11502-R | Fed/Ex Express, Memphis, TN | 4 | 11-30-2011
8697-R | TEMSCO Helicopters, Inc., Ketchikan, AK | 4 | 11-30-2011
7887-R | Quest Aerospace, Inc., Pagosa Springs, CO | 4 | 11-30-2011
11396-R | Rinchem Company, Inc., Albuquerque, NM | 4 | 11-30-2011
7835-R | Robbie D. Wood Inc., Dolomite, AL | 4 | 11-30-2011
11396-R | Robbie D. Wood, Inc., Dolomite, AL | 4 | 11-30-2011
12283-R | Interstate Battery of Alaska, Anchorage, AK | 4 | 11-30-2011
11502-R | UPS, Inc., Atlanta, GA | 4 | 11-30-2011
4884-R | Airgas, Inc., Cheyenne, WY | 4 | 11-30-2011
7835-R | GTS-Welco, Praxair Joint Venture (Former Grantee GT & S, Inc.), Morrisville, PA | 4 | 11-30-2011
7835-R | Matheson Tr-Gas, Inc., Basking Ridge, NJ | 4 | 11-30-2011
9157-R | Matheson Tr-Gas, Basking Ridge, NJ | 4 | 11-30-2011
7835-R | Praxair Distribution Inc., Danbury, CT | 4 | 11-30-2011
7835-R | Praxair, Inc., Danbury, CT | 4 | 11-30-2011
7835-R | ABCO Welding & Industrial Supply, Inc., Waterford, CT | 4 | 11-30-2011
7835-R | Airgas, Inc., Cheyenne, WY. | 4 | 11-30-2011
12726-R | Fed/Ex Express Corporation, Memphis, TN | 4 | 11-30-2011
11043-R | Department of Defense, Scott Air Force Base, IL | 4 | 11-30-2011
11396-R | Department of Defense, Scott Air Force Base, IL | 4 | 11-30-2011
6971-R | Chem Service, Inc., West Chester, PA | 4 | 11-30-2011
11660-R | Olsen Tuckpointing Company, Barrington, IL | 4 | 11-30-2011
7835-R | Rinchem Company, Inc., Albuquerque, NM | 4 | 11-30-2011
7835-R | Air Liquide America L.P., Houston, TX | 4 | 11-30-2011
9778-R | Baker Atlas, Houston, TX | 4 | 11-30-2011
11984-R | Heritage Transport, LLC, Indianapolis, IN | 4 | 11-30-2011
10709-R | Nalco Company, Naperville, IL | 4 | 11-30-2011
7835-R | General Air Service & Supply, Denver, CO | 4 | 11-30-2011
7835-R | SET Environmental, Inc., Wheeling, IL | 4 | 11-30-2011
14691-R | FedEx Express, Memphis, TN | 4 | 11-30-2011
5112-R | U.S. Department of Defense, SCOTT AIR FORCE BASE, IL | 4 | 11-30-2011
7887-R | EQ Industrial Services, Inc., Ypsilanti, MI | 4 | 11-30-2011
7835-R | Air Liquide America Speciality Gases LLC, Plumsteadville, PA | 4 | 11-30-2011
2709-R | U.S. Dept. of Defense (MSDDC), Scott AFB, IL | 4 | 11-30-2011
10709-R | Schlumberger Technologies Corporation, Sugar Land, TX | 4 | 11-30-2011
11055-R | Disposal Consultant Services, Inc., Piscataway, NJ | 4 | 11-30-2011
14754-R | Sierra Chemical Company, Sparks, NV | 4 | 11-30-2011
11984-R | American Airlines, Inc., Tulsa, OK | 4 | 11-30-2011
2787-R | Raytheon Company, Andover, MA | 4 | 11-30-2011
7887-R | Republic Environmental Systems (Pennsylvania), LLC, Hatfield, PA | 4 | 11-30-2011
11866-R | Horizon Lines, LLC, Jacksonville, FL | 4 | 11-30-2011
4850-R | Owen Oil Tools LP, Godley, TX | 4 | 11-30-2011
11396-R | A & D Environmental Services, Inc., Archdale, NC | 4 | 11-30-2011
11043-R | A & D Environmental Services, Inc., Archdale, NC | 4 | 11-30-2011
11043-R | Disposal Consultant Services, Inc., Piscataway, NJ | 4 | 11-30-2011
7835-R | Disposal Consultant Services, Inc., Piscataway, NJ | 4 | 11-30-2011
9929-R | Alliant Techsystems Inc., Propulsion & Controls (Former Grantee ATK Elkton), Elkton, MD | 4 | 11-30-2011
11396-R | Chemtron Corp., Avon, OH | 4 | 11-30-2011
11903-R | Comptank Corporation, Bothwell, ON | 4 | 11-30-2011
14741-R | Weatherford International, Fort Worth, TX | 4 | 11-30-2011
4850-R | Schlumberger Technology Corporation, Sugar Land, TX | 4 | 11-30-2011
8307-R | Sandia National Laboratories, Albuquerque, NM | 4 | 11-30-2011
11043-R | Hazardous Waste Transportation Services, Inc., Santa Fe Springs, CA | 4 | 11-30-2011
11396-R | Hazardous Waste Transportation Services, Inc., Santa Fe Springs, CA | 4 | 11-30-2011
11396-R | A & D Environmental Services (SC), LLC (Former Grantee: Nu Way Environmental Services, LLC), Lexington, SC | 4 | 11-30-2011
12412-R | Weas Engineering, Inc., Westfield, IN | 4 | 11-30-2011
3004-R | Air Products & Chemicals, Inc., Allentown, PA | 4 | 11-30-2011
6443-R | Marsulex Sulfides, Fort Saskatchewan, AB | 4 | 11-30-2011
8915-R | Praxair, Inc., Danbury, CT | 4 | 11-30-2011
9623-R | Orica USA Inc., Watkins, CO | 4 | 11-30-2011
10045-R | FedEx Express, Memphis, TN | 4 | 11-30-2011
11227-R | Schlumberger Well Services, a Division of Schlumberger Technology Corporation, Sugar Land, TX | 4 | 11-30-2011
12412-R | ChemStation of Minneapolis, Eagan, MN | 4 | 11-30-2011
4850-R | Ensign-Bickford Aerospace & Defense Company, Simsbury, CT | 4 | 11-30-2011
4850-R | Honeywell International, Inc., Morristown, NJ | 4 | 11-30-2011
11227-R | Baker Hughes Oilfield Operations, Inc, dba Baker Atlas (Former Grantee: Baker Hughes), Houston, TX | 4 | 11-30-2011
9166-R | Hawk Leasing, Corp., Ardmore, OK | 4 | 11-30-2011
11110-R | United Parcel Services Company, Louisville, KY | 4 | 11-30-2011
4850-R | Halliburton Energy Services, Inc., Duncan, OK | 4 | 11-30-2011
6691-R | nexAir, LLC, Memphis, TN | 4 | 11-30-2011
14755-R | Tanner Industries Inc., SOUTHAMPTON, PA | 4 | 11-30-2011
3004-R | Air Liquide America L.P., Houston, TX | 4 | 11-30-2011
3004-R | Praxair Inc., Danbury, CT | 4 | 11-30-2011
3004-R | Praxair Distribution, Inc., Danbury, CT | 4 | 11-30-2011
4850-R | Department of Defense, Scott AFB, IL | 4 | 11-30-2011
7972-R | E.I. Du Pont de Nemours & Company, WILMINGTON, DE | 4 | 11-30-2011
8445-R | Precision Industrial Maintenance, Inc., Schenectady, NY | 4 | 11-30-2011
11043-R | Freehold Cartage, Inc., Freehold, NJ | 4 | 11-30-2011
11043-R | North State Environmental, So. San Francisco, CA | 4 | 11-30-2011
12283-R | Federal Aviation Administration, Alaskan Region (FAA), Anchorage, AK | 4 | 11-30-2011
10672-R | Burlington Packaging, Inc., Brooklyn, NY | 4 | 11-30-2011
8445-R | Heritage Transport, LLC, Indianapolis, IN | 4 | 11-30-2011
9735-R | Hapag-Lloyd (America) Inc., Piscataway, NJ | 4 | 11-30-2011
11396-R | AET Environmental, Inc., Denver, CO | 4 | 11-30-2011
11043-R | Clean Earth of North Jersey, Inc., South Kearny, NJ | 4 | 11-30-2011
9623-R | Alaska Pacific Powder Company, Anchorage, AK | 4 | 11-30-2011
14791-R | Heliqwest International Inc., Montrose, CO | 4 | 11-30-2011
10985-R | Domtar A.W. Corp., Ashdown, AR | 4 | 11-30-2011
11073-R | E.I. du Pont de Nemours & Company, Wilmington, DE | 4 | 11-30-2011
8445-R | AET Environmental, Inc., DENVER, CO | 4 | 11-30-2011
970-R | Voltaix, Inc., North Branch, NJ | 4 | 11-30-2011
7835-R | Roberts Oxygen Company, Inc., Gaithersburg, MD | 4 | 11-30-2011
12335-R | Baker Hughes Oilfield Operations, Inc., dba Baker Atlas Division, Houston, TX | 4 | 11-30-2011
6691-R | ABCO Welding & Industrial Supply, Inc. (Show Cause Letter), Waterford, CT | 4 | 11-30-2011
10048-R | Maine LabPack, South Portland, ME | 4 | 11-30-2011
11043-R | Maine LabPack, South Portland, ME | 4 | 11-30-2011
7887-R | Stericycle Specialty Waste Solutions Inc., Blaine, MN | 4 | 11-30-2011
8445-R | Stericycle Specialty Waste Solutions Inc., Blaine, MN | 4 | 11-30-2011
11396-R | Stericycle Specialty Waste Solutions Inc., Blaine, MN | 4 | 11-30-2011
7954-R | Matheson Tri Gas, Inc., Basking Ridge, NJ | 4 | 11-30-2011
8445-R | SET Environmental, Inc., Wheeling, IL | 4 | 11-30-2011
8445-R | Clean Harbors Environmental Services, Inc., Norwell, MA | 4 | 11-30-2011
9623-R | Austin Powder Company, Cleveland, OH | 4 | 11-30-2011
9551-R | Kalitta Air, LLC, Ypsilanti, MI |  | 11-30-2011
11043-R | SET Environmental, Inc., Wheeling, IL | 4 | 11-30-2011
13161-R | Honeywell International Inc., Morristown, NJ | 4 | 11-30-2011
4850-R | Accurate Energetic Systems, LLC MC, EWEN, TN | 4 | 11-30-2011
11043-R | AET Environmental, Inc., DENVER, CO | 4 | 11-30-2011
12095-R | Clean Harbors, Environmental Services, Inc., Norwell, MA | 4 | 11-30-2011
6691-R | Matheson Tr-Gas, Inc. 9, (Show Cause Letters), Basking Ridge, NJ | 4 | 11-30-2011
7594-R | Bromine Compounds, Ltd., Beer Sheva, UT | 4 | 11-30-2011
9623-R | Buckley Powder Company, Englewood, CO | 4 | 11-30-2011
11348-R | BASF Corporation, Florham Park, NJ | 4 | 11-30-2011
7887-R | Photo Waste Recycling Co., Inc., San Rafael, CA | 4 | 11-30-2011
7887-R | Chemical Pollution Control of FL, LLC, Deerfield Beach, FL | 4 | 11-30-2011
11043-R | Veolia ES Technical Solutions, L.L.C., Flanders, NJ | 4 | 11-30-2011
7887-R | Northland Environmental, LLC, Providence, RI | 4 | 11-30-2011
11396-R | Northland Environmental, LLC, Providence, RI | 4 | 11-30-2011
12283-R | AT&T Alascom, Anchorage, AK | 4 | 11-30-2011
7887-R | 21st Century Environmental Management, LLC of RI, Providence, RI | 4 | 11-30-2011
11396-R | 21st Century Environmental, Management, LLC of RI, Providence, RI | 4 | 11-30-2011
11396-R | Chemical Pollution Control of FL, LLC, Deerfield Beach, FL | 4 | 11-30-2011
11296-R | Environmental Waste Services, Inc., Elburn, IL | 4 | 11-30-2011
11043-R | Stericycle Specialty, Waste Solution Inc., Blaine, MN | 4 | 11-30-2011
11296-R | Bay West, Inc., St. Paul, MN | 4 | 11-30-2011
13078-R | E.I. duPont de Nemours & Co., Wilmington, DE | 4 | 11-30-2011
8156-R | Gas Dynamics, a division of the Argus Group. Inc., Chesterfield, MI | 4 | 11-30-2011
11396-R | Responsive Environmental Solutions Inc., New Braunfels, TX | 4 | 11-30-2011
7887-R | Chemical Pollution Control, LLC of New York, Bay Shore, NY | 4 | 11-30-2011
8445-R | Chemical Analytics, Inc., Romulus, MI | 4 | 11-30-2011
11043-R | Chemical Analytics, Inc. (CAI), Romulus, MI | 4 | 11-30-2011
6805-R | Praxair Distribution, Southeast, LLC, Tequesta, FL | 4 | 11-30-2011
6691-R | Praxair Distribution Southeast, LLC, Tequesta, FL | 4 | 11-30-2011
12412-R | American Development, Corporation, Fayetteville, TN | 4 | 11-30-2011
970-R | BASF Corporation, Florham, NJ | 4 | 11-30-2011
7073-R | Afton Chemical Corporation, Richmond, VA | 4 | 11-30-2011
7073-R | Ethyl Corporation, Richmond, VA | 4 | 11-30-2011
8445-R | University of Vermont, Burlington, VT | 4 | 11-30-2011
11043-R | Safety-Kleen EnviroSystems Company of Puerto Rico, Inc., Manati, PR | 4 | 11-30-2011
11043-R | Safety-Kleen Systems, Inc., Plano, TX | 4 | 11-30-2011
12905-R | Texana Tank Car & Mfg., Ltd., Nash, TX | 4 | 11-30-2011
11043-R | Bay West, Inc., St. Paul, MN | 4 | 11-30-2011
7616-R | B&H Rail Corporation (BH), The, Lakeville, NY | 4 | 11-30-2011
11984-R | American Eagle Airlines, Inc., DFW Airport, TX | 4 | 11-30-2011
7954-R | Solvay Fluorides, LLC, Houston, TX | 4 | 11-30-2011
7954-R | Solvay Fluor Korea Co., Ltd., Uliju-Kun, Ulsan Korea | 4 | 11-30-2011
10880-R | Buckley Powder Company, Englewood, CO | 4 | 11-30-2011
11396-R | Haz Mat Trans, Inc., San Bernardino, CA | 4 | 11-30-2011
970-R | U.S. Department of Defense, Scott AFB, IL | 4 | 11-30-2011
8445-R | Northland Environmental, LLC, Providence, RI | 4 | 11-30-2011
8445-R | 21st Century Environmental, Management, LLC of RI, Providence, RI | 4 | 11-30-2011
8757-R | Milton Roy Company, Ivyland, PA | 4 | 11-30-2011
6805-R | Air Liquide America LP, Houston, TX | 4 | 11-30-2011
7835-R | Air Liquide Healthcare America Corporation, Houston, TX | 4 | 11-30-2011
8445-R | Chemical Pollution Control of FL, LLC, Deerfield Beach, FL | 4 | 11-30-2011
6691-R | Linde Gas Puerto Rico Inc, NEW PROVIDENCE, NJ | 4 | 11-30-2011
6691-R | Linde Gas North America LLC, NEW PROVIDENCE, NJ | 4 | 11-30-2011
11043-R | HazMat Environmental Group, Inc., Buffalo, NY | 4 | 11-30-2011
11043-R | EQ Industrial Services, Inc., Ypsilanti, MI | 4 | 11-30-2011
11043-R | Northland Environmental, LLC, Providence, RI | 4 | 11-30-2011
11043-R | 21st Century Environmental Management, LLC of RI, Providence, RI | 4 | 11-30-2011
11043-R | Bed Rock, Inc., dba Tri-State Motor Transit Co., Joplin, MO | 4 | 11-30-2011
11396-R | Advanced Waste Carriers, Inc., West Allis, WI | 4 | 11-30-2011
11984-R | 21st Century Environmental Management, LLC of RI, Providence, RI | 4 | 11-30-2011
11984-R | Northland Environmental, LLC (Northland), Providence, RI | 4 | 11-30-2011
11984-R | Chemical Pollution Control of FL, LLC, Deerfield Beach, FL | 4 | 11-30-2011
12095-R | Lyondell Basell Industeries (former Grantee Lyondell Chemical), Houston, TX | 4 | 11-30-2011
12412-R | DistTech Inc., dba DistTec, North Canton, OH | 4 | 11-30-2011
12412-R | Chemi-Green Solutions LLC, dba ChemStation of Oregon, Wilsonville, OR | 4 | 11-30-2011
10650-R | Loveland Products, Inc., Billings, MT | 4 | 11-30-2011
10880-R | Hilltop Energy, Inc., Mineral City, OH | 4 | 11-30-2011
15073-R | Utility Aviation, Inc., Loveland, CO | 4 | 11-30-2011
5022-R | U.S. Department of Defense, Scott AFB, IL | 4 | 11-30-2011
8228-R | U.S. Department of Defense, Scott AFB, IL | 4 | 11-30-2011
5022-R | Aerojet Corporation, Culpeper, VA | 4 | 11-30-2011
5022-R | ATK Launch Systems Inc., Brigham City, UT | 4 | 11-30-2011
10458-R | Chemtrade Logistics Inc., Toronto, ON | 4 | 11-30-2011
11373-R | Specialty Chemical Company LLC, Cleveland, TN | 4 | 11-30-2011
11396-R | Wal-Mart Stores East, LP (“Wal-Mart-LP”), Bentonville, AR | 4 | 11-30-2011
11396-R | Wal-Mart Stores, Inc., Bentonville, AR | 4 | 11-30-2011
11432-R | Baker Hughes Oilfield, Operations, Inc. (DBA Baker Atlas), Houston, TX | 4 | 11-30-2011
5022-R | ATK ABL, Rocket Center, WV | 4 | 11-30-2011
8228-R | U.S. Department of Homeland Security, Transportation Security Laboratory (TSL), Atlantic City, NJ | 4 | 11-30-2011
8995-R | BASF Corporation, Florham Park, NJ | 4 | 11-30-2011
12014-R | Trane Company, The, Charlotte, NC | 4 | 11-30-2011
12325-R | Air Liquide America L.P., Houston, TX | 4 | 11-30-2011
12412-R | FMC Corporation, Philadelphia, PA | 4 | 11-30-2011
13219-R | Solvay Chemicals, Inc., Houston, TX | 4 | 11-30-2011
8228-R | Central Intelligence Agency (CIA), Washington, DC | 4 | 11-30-2011
8445-R | Philip Reclamation Services, Houston, LLC, Houston, TX | 4 | 11-30-2011
8995-R | Flexible Products Company of Marietta, GA, a wholly owned subsidiary of The Dow Chemical Company, Philadelphia, PA | 4 | 11-30-2011
10880-R | Dyno Nobel, Inc., Salt Lake City, UT | 4 | 11-30-2011
11043-R | Allworth, LLC, Birmingham, AL | 4 | 11-30-2011
11043-R | Republic Environmental Systems, Pa. LLC, Hatfield, PA | 4 | 11-30-2011
11043-R | Chemical Pollution Control of FL, LLC, Deerfield Beach, FL | 4 | 11-30-2011
11043-R | Rho-Chem, LLC, Phoenix, AZ | 4 | 11-30-2011
11043-R | Philip Reclamation Services, Houston, LLC, Houston, TX | 4 | 11-30-2011
11043-R | A & D Environmental Services (SC), LLC, Lexington, SC | 4 | 11-30-2011
11373-R | A & D Environmental Services (SC), LLC, Lexington, SC | 4 | 11-30-2011
11396-R | Allworth, LLC, Birmingham, AL | 4 | 11-30-2011
11396-R | Republic Environmental Systems (Pennsylvania), LLC, Hatfield, PA | 4 | 11-30-2011
11984-R | Allworth, LLC, Birmingham, AL | 4 | 11-30-2011
11984-R | Republic Environmental Systems (Pennsylvania) LLC, Hatfield, PA | 4 | 11-30-2011
13020-R | Bristol Bay Contractors, Inc., King Salmon, AK | 4 | 11-30-2011
13192-R | A & D Environmental Services (SC), LLC, Lexington, SC | 4 | 11-30-2011
14193-R | Honeywell International, Inc., Morristown, NJ | 4 | 11-30-2011
8445-R | Advanced Waste Carriers, Inc., West Allis, WI | 4 | 11-30-2011
9275-R | Tommy Bahama Group, Inc., dba TBG, Inc., Auburn, WA | 4 | 11-30-2011
11043-R | Advanced Waste Carriers, Inc., West Allis, WI | 4 | 11-30-2011
11043-R | Solvent Recovery, LLC, Kansas City, MO | 4 | 11-30-2011
11215-R | Orbital Sciences Corporation, Mojave, CA | 4 | 11-30-2011
11396-R | Solvent Recovery, LLC, Kansas City, MO | 4 | 11-30-2011
14823-R | FedEx Ground Package, System, Inc., Moon Township, PA | 4 | 11-30-2011
11043-R | Robbie D. Wood, Inc., Dolomite, AL | 4 | 11-30-2011
2709-R | Aerojet Corporation, Culpeper, VA | 4 | 11-30-2011
11966-R | FMC Corporation, Philadelphia, PA | 4 | 11-30-2011
12325-R | Kraton Polymers, U.S. LLC, Belpre, OH | 4 | 11-30-2011
8915-R | Air Liquide America Specialty Gases LLC, Plumsteadville, PA | 4 | 11-30-2011
13163-R | Pacific Bio-Material, Management, Inc., dba Pacific Scientific Transport, Fresno, CA | 4 | 11-30-2011
7887-R | PSC Recovery Systems, LLC, Dallas, TX | 4 | 11-30-2011
8445-R | PSC Recovery Systems, LLC, Dallas, TX | 4 | 11-30-2011
11043-R | PSC Recovery Systems, LLC, Dallas, TX | 4 | 11-30-2011
11984-R | PSC Recovery Systems. LLC, Dallas, TX | 4 | 11-30-2011
3004-R | Air Liquide America Specialty Gases LLC, Plumsteadville, PA | 4 | 11-30-2011
8156-R | Air Liquide America Specialty Gases LLC, Plumsteadville, PA | 4 | 11-30-2011
8228-R | U.S. Department of Justice, Bureau of Alcohol, Tobacco, Firearms and Explosives (ATF), Washington, DC | 4 | 11-30-2011
6805-R | Air Liquide America Specialty Gases LLC, Plumsteadville, PA | 4 | 11-30-2011
8723-R | Western Explosive Systems Company DBA WESCO, Midvale, UT | 4 | 11-30-2011
14175-R | Dressel Welding Supply, Inc., Lancaster, PA | 4 | 11-30-2011
8156-R | Airgas, Inc., Cheyenne, WY | 4 | 11-30-2011
11967-R | Brenntag Mid-South, Inc., Henderson, KY | 4 | 11-30-2011
6670-R | Linde Gas North America LLC, Murray Hill, NJ | 4 | 11-30-2011
8915-R | Linde Gas North America LLC, Murray Hill, NJ | 4 | 11-30-2011
11759-R | 3M, Saint Paul, MN | 4 | 11-30-2011
11043-R | Barnes HazMat, Inc., Pacoima, CA | 4 | 11-30-2011
5022-R | Custom Analytical Engineering Systems, Inc., Flintstone, MD | 4 | 11-30-2011
11043-R | Haz Mat Services, Inc., Anaheim, CA | 4 | 11-30-2011
11396-R | Haz Mat Services, Inc., Anaheim, CA | 4 | 11-30-2011
10880-R | Austin Powder Company, Cleveland, OH | 4 | 11-30-2011
12858-R | Union Carbide, North Seadrift, TX | 4 | 11-30-2011
12858-R | The Dow Chemical Company, Philadelphia, PA | 4 | 11-30-2011
12744-R | AFL Network Services, Inc., Duncan, SC | 4 | 11-30-2011
10457-R | Thatcher Transportation, Inc., Salt Lake City, UT | 4 | 11-30-2011

[FR Doc. 2011-22942 Filed 9-12-11; 8:45 am]

BILLING CODE 4910-60-M